CHEMICAL SAFETY AND HAZARD INVESTIGATION BOARD

Sunshine Act Meeting

TIME AND DATE: May 5, 2022, 1:00 p.m. EDT (4 hours).

PLACE: The meeting will be held virtually via ZOOM. Please access the meeting via the link: https://www.zoomgov.com/j/1604959044?pwd=OWdOUXJzUXJzM0NoR0Z6a24ycElvUT09.

Meeting ID: 160 495 9044

Passcode: 883045

One tap mobile: +16692545252,,1604959044# U.S. (San Jose); +16692161590,,1604959044# U.S. (San Jose)

Dial by your location: +1 669 254 5252 U.S. (San Jose), +1 669 216 1590 U.S. (San Jose), +1 551 285 1373 U.S., +1 646 828 7666 U.S. (New York)

PLACE: Public Meeting Hosted via Zoom.

STATUS: Open to the public.

MATTERS TO BE CONSIDERED: The Chemical Safety and Hazard Investigation Board (CSB) announces that it will convene a public meeting to consider the Loy-Lange Final Investigation Report. The report details the investigation into a fatal incident that occurred on April 3, 2017, in St. Louis, Missouri. A massive steam explosion caused a pressure vessel weighing approximately 2,000 pounds to launch itself into the air. The initial explosion killed one worker and critically injured another. The vessel flew several hundred feet and landed nearby on another company's property, fatally injuring three members of the public.

CSB staff will present its final report with corresponding findings and recommendations. Staff presentations are preliminary and are intended to allow the Board to consider in a public forum the issues and factors involved in this case.

To submit public comments for the record please email us at public@csb.gov. Public comments sent in advance may be addressed at the meeting.

CONTACT PERSON FOR FURTHER INFORMATION: Hillary Cohen, Communications Manager, at public@csb.gov or (202) 446-8094. Further information about this public meeting can be found on the CSB website at: www.csb.gov.

ADDITIONAL INFORMATION:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. This meeting will only be available via ZOOM. Close captions (CC) will be provided.

Dated: April 15, 2022.
Tamara Qureshi,
Assistant General Counsel, Chemical Safety and Hazard Investigation Board.

[FR Doc. 2022-08473 Filed 4-15-22; 4:15 pm]

BILLING CODE 6350-01-P